FEDERAL COMMUNICATIONS COMMISSION

Federal Advisory Committee Act; Communications Security, Reliability and Interoperability Council

AGENCY: Federal Communications Commission.

ACTION: Notice of intent to renew charter.

SUMMARY: In accordance with the Federal Advisory Committee Act, the purpose of this notice is to announce that the Federal Communications Commission (FCC) has renewed the charter of the “Communications Security, Reliability and Interoperability Council” (hereinafter the “CSRIC”).

ADDRESSES: A copy of the charter is available at the Federal Communications Commission, Reference Information Center, 445 12th Street, SW., Room CY-A257, Washington, DC 20554.

FOR FURTHER INFORMATION CONTACT: Lisa M. Fowlkes, Deputy Bureau Chief, Public Safety & Homeland Security Bureau, Federal Communications Commission, 445 12th Street, SW., Room 7-C753, Washington, DC 20554. Telephone: (202) 418-7452, e-mail: lisa.fowlkes@fcc.gov.

SUPPLEMENTARY INFORMATON: The purpose of the CSRIC is to provide recommendations to the FCC to ensure optimal security, reliability, and interoperability of communications systems, including public safety, telecommunications, and media communications. The recommendations to be provided by the CSRIC shall include those related to facilitating: (1) The security, reliability, operability and interoperability of public safety communications systems; (2) the security, reliability, operability, and interoperability of wireline, wireless, satellite, cable, and public voice and data networks; and (3) the security and reliability of broadcast and Multichannel Video Programming Distribution facilities. The CSRIC's recommendations will also address: (1) Ensuring the availability of communications capacity during natural disasters, terrorist attacks, or other events that result in exceptional strain on the communications infrastructure; and (2) ensuring and facilitating the rapid restoration of communications services in the event of widespread or major disruptions.

The Council's duties may include: (1) Recommending best practices and actions the FCC can take to ensure the security, reliability, operability, and interoperability of today's public safety communications systems, including dispatch systems, radio communications networks and facilities, and devices used by first responders. (This task should take into account the availability of new and advanced technologies such as broadband and Internet Protocol (IP) based technologies); (2) recommending best practices and actions the FCC can take to improve the reliability and resiliency of communications infrastructure. (This task should include a review and update, if appropriate, of best practices previously produced by the Network Reliability and Interoperability Council and the Media Security and Reliability Council, should take into account new and advanced technologies including broadband and IP-based technologies, as well as, to the extent appropriate, additional functionalities provided by wireless handsets such as Short Message Service (SMS) to create alternative means of communication to emergency response channels); (3) evaluating ways to strengthen the collaboration between communications service providers and public safety entities during emergencies and make recommendations for how they can be improved; (4) developing and recommending best practices and actions the FCC can take that promote reliable 9-1-1 and enhanced 9-1-1 service, including procedures for: (a) Defining geographic coverage areas for public safety answering points; (b) defining network diversity requirements for delivery of IP-enabled 9-1-1 and enhanced 9-1-1 calls; (c) call-handling in the event of call overflow or network outages; (d) public safety answering point (PSAP) certification and testing requirements; (e) validation procedures for inputting and updating location information in relevant databases; and (f) the format for delivering address information to PSAPs; (5) analyzing and recommending technical options to enable accurate and reliable dynamic E9-1-1 location identification for interconnected VoIP services; (6) recommending ways, including best practices, to improve Emergency Alert System (EAS) operations and testing and to ensure that all Americans, including those living in rural areas, the elderly, people with disabilities, and people who do not speak English, have access to timely EAS alerts and other emergency information; (7) recommending methods to measure reliably and accurately the extent to which key best practices are implemented both now and in the future. (In carrying out this task, the Council shall identify those “key best practices” for each communications industry segment, e.g., media, wireline, and wireless, that are most critical for network and media security, reliability, operability, and interoperability); (8) making recommendations with respect to such additional topics as the FCC may specify. Such topics may include issues arising from the convergence of technologies and how the FCC can best fulfill its responsibilities, particularly with respect to safety of life and property (including law enforcement) and national defense under the Communications Act.

Federal Communications Commission.
Marlene H. Dortch,
Secretary.

[FR Doc. E9-6014 Filed 3-18-09; 8:45 am]

BILLING CODE 6712-01-P